DEPARTMENT OF TRANSPORTATION

Federal Aviation Administration

Notice of Intent To Rule on Application # 02-06-C-00-JNU To Impose and Use the Revenue From a Passenger Facility Charge at Juneau International Airport, Juneau, AK

AGENCY: Federal Aviation Administration (FAA), DOT

ACTION: Notice of intent to rule on application.

SUMMARY: The FAA proposes to rule and invites public comment on the application to impose and use the revenue from a Passenger Facility Charge (PFC) at Juneau International Airport under the provisions of the 49 U.S.C. 40117 and Part 158 of the Federal Aviation Regulations (14 CFR part 158).

DATES: Comments must be received on or before March 6, 2002.

ADDRESSES: Comments on this application may be mailed or delivered in triplicate to the FAA at the following address: Byron K. Huffman, Manager, Alaskan Region Airports Division, 222 West 7th, Box 14, Anchorage, AK 99513.

In addition, one copy of any comments submitted to the FAA must be mailed or delivered to Mr. Allan A. Heese, Airport Manager, Juneau International Airport, at the following address: Juneau International Airport, 1873 Shell Simmons Drive, Juneau, AK 99801. Air carriers and foreign air carriers may submit copies of written comments previously provided to the Juneau International Airport under section 158.23 of Part 158.

FOR FURTHER INFORMATION CONTACT: Debbie Roth, Program Specialist, Alaskan Region Airports Division, Planning and Programming Branch, AAL-611A, 222 W 7th, Box 14, Anchorage, AK 99513, (907) 271-5443. The application may be reviewed in person at this same location.

SUPPLEMENTARY INFORMATION: the FAA proposes to rule and invites public comment on the application to impose and use the revenue from a PFC at Juneau International Airport under the provisions of the 49 U.S.C. 40117 and Part 158 of the Federal Aviation Regulations (14 CFR part 158).

On January 22, 2002, the FAA determined that the application to impose and use the revenue from a PFC submitted by the City and Borough of Juneau, Juneau International Airport, Juneau, Alaska, was substantially complete within the requirements of section 158.25 of Part 158. The FAA will approve or disapprove the application, in whole or in part, no later than April 25, 2002.

The following is a brief overview of the application.

Proposed charge effective date: July 1, 2002.

Proposed charge expiration date: May 1, 2005.

Level of the proposed PFC: $4.50.

Total estimated PFC revenue: $3,171,559.

Brief description of proposed projects:

Impose Only

Construct snow removal equipment building; construct runway safety area phase II—mitigation and construction; develop Northwest Quadrant.

Impose and Use

Rehabilitate access road (Cessna Dr./Alex Holden Way); reconstruct parallel taxiway; conduct terminal expansion feasibility study/design, phase 1.

Class or classes of air carriers which the public agency has requested not be required to collect PFCs: None

Any person may inspect the application in person at the FAA office listed above under FOR FURTHER INFORMATION CONTACT located at the FAA, Alaskan Region Airports Division, Anchorage, Alaska.

In addition, any person may, upon request, inspect the application, notice and other documents germane to the application in person at the Juneau International Airport.

Issued in Anchorage, Alaska on January 25, 2002.
Byron K. Huffman,
Manager, Airports Division, Alaskan Region.

[FR Doc. 02-2633 Filed 2-1-02; 8:45 am]

BILLING CODE 4910-13-M